DEPARTMENT OF THE INTERIOR

Bureau of Land Management

[LLCAD01000 L12100000.MD0000 18XL1109AF]

Meeting of the California Desert District Advisory Council

AGENCY: Bureau of Land Management.

ACTION: Notice of public meeting.

SUMMARY: In accordance with the Federal Land Policy and Management Act of 1976 and the Federal Advisory Committee Act of 1972, the U.S. Department of the Interior, Bureau of Land Management (BLM) California Desert District Advisory Council (DAC) will meet as indicated below.

DATES: The BLM's California DAC will hold a public meeting on Tuesday, March 20, 2018, from 12:00 p.m. to 5 p.m.

ADDRESSES: The meeting will be held at the Hilton Garden Inn, Mirage Room, 12603 Mariposa Rd., Victorville, CA 92395. The final agenda for the March 20, 2018, public meeting will be posted on the BLM web page at: https://www.blm.gov/site-page/get-involved-rac-near-you-california-california-desert-district. Written comments may be filed in advance of the meeting and sent to the California Desert DAC, c/o Bureau of Land Management, External Affairs, 22835 Calle San Juan de Los Lagos, Moreno Valley, CA 92553.

FOR FURTHER INFORMATION CONTACT: Stephen Razo, BLM California Desert District External Affairs, telephone: 951-697-5217, email: srazo@blm.gov. Persons who use a telecommunications device for the deaf (TDD) may call the Federal Relay Service (FRS) at 1-800-877-8339 to contact the above individual during normal business hours. The FRS is available 24 hours a day, 7 days a week, to leave a message or question with the above individuals. You will receive a reply during normal hours.

SUPPLEMENTARY INFORMATION: All DAC meetings are open to the public. The 15-member DAC advises the Secretary of the Interior, through the BLM, on a variety of planning and management issues associated with public land management on BLM-administered lands in the California desert. The agenda will include time for public comment at the beginning and end of the meeting, as well as during various presentations. While the meeting is tentatively scheduled from 12:00 p.m. to 5:00 p.m., the meeting could conclude earlier depending on the length of time for presentations and discussions. Members of the public interested in a particular agenda item or discussion should schedule their arrival accordingly. The agenda for the meeting will include an update on the Desert Renewable Energy Conservation Plan and updates from council members and the BLM California Desert District Manager.

Written comments will also be accepted at the time of the meeting and, if copies are provided to the recorder, will be incorporated into the minutes.

Before including your address, phone number, email address, or other personal identifying information in your comment, you should be aware that your entire comment—including your personal identifying information—may be made publicly available at any time. While you can ask in your comment that the BLM withhold your personal identifying information from public review, the BLM cannot guarantee that it will be able to do so.

Beth Ransel,
California Desert District Manager.

[FR Doc. 2018-04786 Filed 3-8-18; 8:45 am]

BILLING CODE 4310-40-P